DEPARTMENT OF HEALTH AND HUMAN SERVICES

Administration for Children and Families

Tribal Consultation Meeting

AGENCY: Administration for Children and Families' Office of Head Start (OHS), HHS.

ACTION: Notice of meeting.

SUMMARY: Pursuant to the Improving Head Start for School Readiness Act of 2007, Public Law 110-134, notice is hereby given of two 1-day Tribal Consultation Sessions to be held between the Department of Health and Human Services, Administration for Children and Families, Office of Head Start leadership and the leadership of Tribal Governments operating Head Start (including Early Head Start) programs. The purpose of these Consultation Sessions is to discuss ways to better meet the needs of American Indian and Alaska Native children and their families, taking into consideration funding allocations, distribution formulas, and other issues affecting the delivery of Head Start services in their geographic locations [42 U.S.C. 9835, 640(l)(4)].

DATES: May 9, 2013, and July 26, 2013.

ADDRESSES: 2013 Office of Head Start Tribal Consultation Sessions will be held at the following locations:

Thursday, May 9, 2013—Green Bay, Wisconsin—Radisson Hotel & Conference Center, 2040 Airport Drive, Green Bay, WI 54313; and

Friday, July 26, 2013—Tulsa, Oklahoma—Renaissance Tulsa Hotel & Convention Center, 6808 S. 107th East Avenue, Tulsa, OK 74133

FOR FURTHER INFORMATION CONTACT: Robert Bialas, Regional Program Manager, Region XI, Office of Head Start, email Robert.Bialas@acf.hhs.gov or phone (202) 205-9497. Additional information and online meeting registration is available at http://eclkc.ohs.acf.hhs.gov/hslc/eclkc_main_calendar/tc-2013.

SUPPLEMENTARY INFORMATION: The Department of Health and Human Services (HHS) announces Office of Head Start (OHS) Tribal Consultations for leaders of Tribal Governments operating Head Start and Early Head Start programs. As much as possible, the OHS Tribal Consultations are being scheduled in conjunction with other tribal events. The Consultation in Tulsa will be held in conjunction with the Oklahoma Indian Head Start Directors Association (OIHSDA) Conference. Such scheduling is an effort to minimize the burden of travel for tribal participants. Tribal Consultation dates and locations for other parts of the country, including Alaska, will be announced at a later date.

The agenda for the scheduled OHS Tribal Consultations will be organized around the statutory purposes of Head Start Tribal Consultations related to meeting the needs of American Indian/Alaska Native children and families, taking into consideration funding allocations, distribution formulas, and other issues affecting the delivery of Head Start services in their geographic locations. In addition, OHS will share actions taken and in progress to address the issues and concerns raised in 2012 OHS Tribal Consultations.

Tribal leaders and designated representatives interested in submitting written testimony or proposing specific agenda topics for these Consultation Sessions should contact Robert Bialas at Robert.Bialas@acf.hhs.gov. Proposals must be submitted at least 3 days in advance of each session and should include a brief description of the topic area, along with the name and contact information of the suggested presenter.

The Consultation Session will be conducted with elected or appointed leaders of Tribal Governments and their designated representatives [42 U.S.C. 9835, 640(l)(4)(A)]. Designees must have a letter from the Tribal Government authorizing them to represent the tribe. The letter should be submitted at least 3 days in advance of the Consultation Session to Robert Bialas via fax at 866-396-8843. Other representatives of tribal organizations and Native nonprofit organizations are welcome to attend as observers.

A detailed report of the Consultation Session will be prepared and made available within 45 days of the Consultation Session to all Tribal Governments receiving funds for Head Start and Early Head Start programs. Tribes wishing to submit written testimony for the report should send testimony to Robert Bialas at Robert.Bialas@acf.hhs.gov either prior to the Consultation Session or within 30 days after the meeting.

Oral testimony and comments from the Consultation Session will be summarized in each report without attribution, along with topics of concern and recommendations. Hotel and logistical information for the Consultation Session has been sent to tribal leaders via email and posted on the Early Childhood Learning and Knowledge Center Web site at http://eclkc.ohs.acf.hhs.gov/hslc/eclkc_main_calendar/tc-2013.

Dated: March 26, 2013.
Yvette Sanchez Fuentes,
Director, Office of Head Start.

[FR Doc. 2013-08029 Filed 4-4-13; 8:45 am]

BILLING CODE 4184-40-P